DEPARTMENT OF THE INTERIOR

Bureau of Indian Affairs

Indian Gaming

AGENCY: Bureau of Indian Affairs, Interior.

ACTION: Notice of Tribal-State Class III Gaming Compact taking effect.

SUMMARY: This publishes notice of a Tribal-State Class III Gaming Compact taking effect. The Compact is between the Match-E-Be-Nash-She-Wish Band of Pottawatomi Indians of Michigan and the State of Michigan and provides for the conduct of Tribal Class III Gaming by the Match-E-Be-Nash-She-Wish Band of Pottawatomi Indians of Michigan.

DATES: Effective Date: April 22, 2009.

FOR FURTHER INFORMATION CONTACT: Paula L. Hart, Acting Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This Compact is entered into to fulfill the purpose and intent of IGRA by providing for Tribal gaming as a means of generating Tribal revenues, thereby promoting Tribal economic development, Tribal self-sufficiency and a strong Tribal government. This Compact lists the games that are authorized for play by the Tribe; describes the eligible Indian lands where the Tribe may conduct gaming; lists the regulations to be followed in order to conduct Class III gaming, as well as, the regulations to provide services to the gaming facility; and provides for dispute resolution over any breaches of this Compact.

Dated: April 13, 2009.
George T. Skibine,
Deputy Assistant Secretary for Policy and Economic Development.

[FR Doc. E9-9260 Filed 4-21-09; 8:45 am]

BILLING CODE 4310-4N-P